DEPARTMENT OF TRANSPORTATION

Federal Aviation Administration

Advisory Circular 23-XX-8B, Flight Test Guide for Certification of Part 23 Airplanes

AGENCY: Federal Aviation Administration (FAA), DOT.

ACTION: Notice of availability of proposed advisory circular (AC) and request for comments.

SUMMARY: This notice announces the availability of and requests comments on a proposed AC. Proposed AC 23-XX-8B provides information and guidance concerning an acceptable means, but not the only means, of compliance with Title 14 of the Code of Federal Regulations (14 CFR) part 23, subpart B and various sections under Subparts A, D, E, F and G from § 23.1 through 23.1589. The guidance applies to the flight tests and pilot judgements in normal, utility, acrobatic, and commuter category airplanes. The AC consolidates existing policy documents, and certain AC's that cover specific paragraphs of the regulations, into a single document. Material in the AC is neither mandatory nor regulatory in nature and does not constitute a regulation.

DATES: Comments must be received on or before June 17, 2002.

ADDRESSES: Send all comments on the proposed AC to: Federal Aviation Administration, Small Airplane Directorate, Aircraft Certification Service, Regulations and Policy (ACE-111), 901 Locust Street, Kansas City, Missouri 64106.

FOR FURTHER INFORMATION CONTACT: Ms. Pat Nininger, Standards Office, Small Airplane Directorate, Aircraft Certification Service, Kansas City, Missouri 64106, telephone (816) 329-4129, fax (816) 329-4090.

SUPPLEMENTARY INFORMATION: Any person may obtain a copy of this proposed AC by contacting the person named above under FOR FURTHER INFORMATION CONTACT. A copy of the AC will also be available on the Internet at http://www.faa.gov/certification/aircraft/air_index.htm within a few days.

Comments Invited

We invite interested parties to submit comments on the proposed AC. Commenters must identify AC 23-XX-8B and submit comments to the address specified above. The FAA will consider all communications received on or before the closing date for comments before issuing the final AC. The proposed AC and comments received may be inspected at the Standards Office (ACE-110), 901 Locust, Room 301, Kansas City, Missouri, between the hours of 8:30 and 4:00 p.m. weekdays, except Federal holidays by making an appointment in advance with the person listed under FOR FURTHER INFORMATION CONTACT.

Background

AC 23-8, Flight Test Guide for Certification of Normal, Utility, and Acrobatic Category Airplanes replaced FAA Order 8110.7, Engineering Flight Test Guide for Small Airplanes, dated June 20, 1972, and consolidated existing flight test policy. AC 23-8 did not cover commuter category airplanes. AC 23-8A updated the original 23-8 by adding information and guidance for commuter airplanes. AC 23-XX-8B again updates the Flight Test Guide to incorporate information and guidance through 14 CFR part 23, Amendment 23-51. The AC also incorporates material harmonized with the European Joint Aviation Authorities (JAA). AC 23-XX-8B and the JAA Advisory Circular Joint for Flight Test are essentially identical for all sections with the exception of known disharmonies.

In 1968, the Federal Aviation Administration (FAA) instituted an extensive review of the airworthiness standards of part 23. Since then, the regulations have been amended through Amendment 23-53. These amendments have changed most of the sections of part 23. The revised advisory circular provides guidance for the original issue of part 23 and the various amendments through Amendment 23-51. The advisory circular covers policy available through June 30, 1994. Policy that became available after June 30, 1994, will be covered in future amendments to the advisory circular. Accordingly, the FAA is proposing and requesting comments on AC 23-XX-8B.

Issued in Kansas City, Missouri on March 6, 2002.
Michael Gallagher,
Manager, Small Airplane Directorate, Aircraft Certification Service.

[FR Doc. 02-9403 Filed 4-17-02; 8:45 am]

BILLING CODE 4910-13-P